DEPARTMENT OF HEALTH AND HUMAN SERVICES

National Institutes of Health

National Cancer Institute; Notice of Closed Meetings

Pursuant to section 10(d) of the Federal Advisory Committee Act, as amended (5 U.S.C. App.), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee:National Cancer Institute Special Emphasis Panel, Multifunctional Therapeutics Based on Nanotechnology, Phase II.

Date:June 1, 2010.

Time:1 p.m. to 3:30 p.m.

Agenda:To review and evaluate contract proposals.

Place:National Institutes of Health, 6116 Executive Boulevard Room 706, Rockville, MD 20852. (Telephone Conference Call).

Contact Person:Jeffrey E. DeClue, PhD, Scientific Review Officer, Special Review and Logistics Branch, Division of Extramural Activities, National Cancer Institute, NIH, 6116 Executive Boulevard, Room 8059, Bethesda, MD 20892-8329, 301-496-7904, decluej@mail.nih.gov.

Name of Committee:National Cancer Institute Special Emphasis Panel, Cancer Prevention Research Small Grant Program (R03).

Date:June 10-11, 2010.

Time:8 a.m. to 5 p.m.

Agenda:To review and evaluate grant applications.

Place:Renaissance M Street Hotel, 1143 New Hampshire Avenue, NW., Washington, DC 20037.

Contact Person:Irina Gordienko, PhD, Scientific Review Officer, Scientific Review and Logistics Branch, Division of Extramural Activities, National Cancer Institute, NIH, 6116 Executive Blvd., Rm. 7073, Bethesda, MD 20892, 301-594-1566, gordienkoiv@mail.nih.gov.

Name of Committee:National Cancer Institute Special Emphasis Panel, Quantitative Imaging for Evaluation of Responses to Cancer Therapies.

Date:June 14, 2010.

Time:8 a.m. to 6 p.m.

Agenda:To review and evaluate grant applications.

Place:Gaithersburg Hilton, 620 Perry Parkway, Gaithersburg, MD 20877.

Contact Person:Kenneth L. Bielat, PhD, Scientific Review Officer, Special Review Logistics Branch, Division of Extramural Activities, National Cancer Institute, 6116 Executive Boulevard, Room 7147, Bethesda, MD 20892-8329, 301-496-7576, bielatk@mail.nih.gov.

Name of Committee:National Cancer Institute Special Emphasis Panel, NCI Clinical Studies.

Date:June 16-18, 2010.

Time:3 p.m. to 5 p.m.

Agenda:To review and evaluate grant applications.

Place:Hilton Washington/Rockville, 1750 Rockville Pike, Rockville, MD 20852.

Contact Person:Majed M. Hamawy, M.B.A., PhD, Scientific Review Officer, Research Programs Review Branch, Division of Extramural Activities, National Cancer Institute, NIH, 6116 Executive Boulevard, Room 8135, Bethesda, MD 20852, 301-594-5659, mh101v@nih.gov.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: April 20, 2010.
Jennifer Spaeth,
Director, Office of Federal Advisory Committee Policy.

[FR Doc. 2010-9634 Filed 4-23-10; 8:45 am]

BILLING CODE 4140-01-P